DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; 67 FR 46519, July 15, 2002; 68 FR 787-793, January 7, 2003; 68 FR 8515-8517, February 21, 2003; 68 FR 64357-64358, November 13, 2003; 69 FR 56433-56445, September 21, 2004; 70 FR 19962-19963, April 15, 2005; as last amended at FR 72 57588-57589, October 10, 2007). This Order of Succession supersedes the Order of Succession for the Administrator, HRSA, published at FR 72 57588-57589, October 10, 2007.

This notice deletes the Associate Administrator, Office of Management, from HRSA's hierarchy affecting the Order of Succession. It also adds, as a last echelon to the HRSA Administrator's order of succession, HRSA Regional Division Directors in the order in which they have received their permanent appointment as such. This notice is to reflect the new Order of Succession for HRSA.

Section R-30, Order of Succession

During the absence or disability of the Administrator, or in the event of a vacancy in the office, the officials designated below shall act as Administrator in the order in which they are listed:

1. Deputy Administrator;

2. Senior Advisor to the Administrator;

3. Chief Financial Officer;

4. Associate Administrator, Bureau of Primary Health Care;

5. Associate Administrator, Bureau of Health Professions;

6. Associate Administrator, HIV/AIDS Bureau;

7. Associate Administrator, Maternal and Child Health Bureau;

8. Associate Administrator, Bureau of Clinician Recruitment and Service;

9. Associate Administrator, Healthcare Systems Bureau;

10. Associate Administrator, Office of Performance Review, and

11. HRSA Regional Division Directors in the order in which they have received their permanent appointment as such.

Exceptions

(a) No official listed in this section who is serving in acting or temporary capacity shall, by virtue of so serving, act as Administrator pursuant to this section.

(b) Notwithstanding the provisions of this section, during a planned period of absence, the Administrator retains the discretion to specify a different order of succession.

Section R-40, Delegation of Authority

All delegations and redelegations of authorities to officers and employees of the Health Resources and Services Administration which were in effect immediately prior to the effective date of this action will be continued in effect in them or their successors, pending further redelegation, provided they are consistent with this action.

This document is effective upon date of signature.

Dated: June 5, 2008.
Elizabeth M. Duke,
Administrator.

[FR Doc. E8-13098 Filed 6-10-08; 8:45 am]

BILLING CODE 4165-15-P